DEPARTMENT OF DEFENSE

Department of the Army; Corps of Engineers

Estuary Habitat Restoration Council; Open Meeting

AGENCY: Department of the Army, U.S. Army Corps of Engineers, DoD.

ACTION: Notice of open meeting.

SUMMARY: In accordance with section 105(h) of the Estuary Restoration Act of 2000, (Title I, Pub. L. 106-457), announcement is made of the forthcoming meeting of the Estuary Habitat Restoration Council. The meeting is open to the public.

DATES: The meeting will be held February 21, 2006, from 10 a.m. to 11:30 a.m.

ADDRESSES: The meeting will be in room 3M60/70 in the GAO building located at 441 G Street, NW., Washington, DC.

FOR FURTHER INFORMATION CONTACT: Ms. Ellen Cummings, Headquarters, U.S. Army Corps of Engineers, Washington, DC 20314-1000, (202) 761-4750; or Ms. Cynthia Garman-Squier, Office of the Assistant Secretary of the Army (Civil Works), Washington, DC, (703) 695-6791.

SUPPLEMENTARY INFORMATION: The Estuary Habitat Restoration Council consists of representatives of five agencies. These are the National Oceanic and Atmospheric Administration, Environmental Protection Agency, U.S. Fish and Wildlife Service, Department of Agriculture, and Army. The duties of the Council include soliciting, reviewing, and evaluating project proposals, and submitting to the Secretary of the Army a prioritized list of projects recommended for construction.

Agenda topics will include decisions on recommending additional proposals to the Secretary of the Army for funding, a brief update on projects previously recommended, a discussion of minor changes to be incorporated in the next solicitation for proposals, and a report on the habitat trends report produced by the National Oceanic and Atmospheric Administration.

Current security measures require that persons interested in attending the meeting must pre-register with use before 2 p.m. February 16, 2006. We cannot guarantee access for requests received after that time. Please contact Ellen Cummings to pre-register. When leaving a voice mail message please provide the name of the individual attending, the company or agency represented, and a telephone number, in case there are any questions. The public should enter on the “G” Street side of the GAO building. All attendees are required to show photo identification and must be escorted to the meeting room by Corps personnel. Attendee's bags and other possessions are subject to being searched. All attendees arriving between one-half hour before and one-half hour after 10 a.m. will be escorted to the meeting. Those who are not pre-registered and/or arriving later than the allotted time will be unable to attend the public meeting.

Brenda S. Bowen,
Army Federal Register Liaison Officer.

[FR Doc. 06-1050 Filed 2-3-06; 8:45 am]

BILLING CODE 4710-92-M